DEPARTMENT OF HEALTH AND HUMAN SERVICES

Indian Health Service

42 CFR Part 136

[RIN 0905AC97]

Catastrophic Health Emergency Fund

AGENCY: Indian Health Service, HHS.

ACTION: Notice; extension of the comment period.

SUMMARY: This document extends the comment period for the Catastrophic Health Emergency Fund (CHEF) notice of proposed rulemaking which was published in the Federal Register on January 26, 2016. The comment period for the notice, which would have ended on March 11, 2016, is extended by 60 days.

DATES: The comment period for the notice published in the January 26, 2016 Federal Register (81 FR 4239) is extended to May 10, 2016.

ADDRESSES: Because of staff and resource limitations, we cannot accept comments by facsimile transmission. You may submit comments in one of four ways (please choose only one of the ways listed):

1. Electronically. You may submit written comments on this regulation to http://www.regulations.gov. Follow the “Submit a Comment” instructions.

2. By regular mail. You may mail written comments to the following address ONLY: Betty Gould, Regulations Officer, Indian Health Service, Office of Management Services, Division of Regulatory Affairs, 5600 Fishers Lane, Mailstop 09E70, Rockville, Maryland 20857.

Please allow sufficient time for mailed comments to be received before the close of the comment period.

3. By express or overnight mail. You may send written comments to the above address.

4. By hand or courier. If you prefer, you may deliver (by hand or courier) your written comments before the close of the comment period to the address above. If you intend to deliver your comments to the Rockville address, please call telephone number (301) 443-1116 in advance to schedule your arrival with a staff member.

Comments will be made available for public inspection at the Rockville address from 8:30 a.m. to 5:00 p.m., Monday-Friday, approximately two weeks after publication of this notice.

FOR FURTHER INFORMATION CONTACT: Ms. Terri Schmidt, Acting Director, Office of Resource Access and Partnerships, Indian Health Service, 5600 Fishers Lane, Mailstop 10E85C, Rockville, Maryland 20857. Telephone: (301) 443-1553.

SUPPLEMENTARY INFORMATION: The notice that was published in the Federal Register on January 26, 2016 advises the public that the Indian Health Service proposes to (1) establish definitions governing the CHEF, including definitions of disasters and catastrophic illnesses; (2) establish that a Service Unit shall not be eligible for reimbursement for the cost of treatment from CHEF until its cost of treating any victim of such catastrophic illness or disaster has reached a certain threshold cost; (3) establish a procedure for reimbursement of the portion of the costs for authorized services that exceed such threshold costs; (4) establish a procedure for payment from CHEF for cases in which the exigencies of the medical circumstances warrant treatment prior to the authorization of such treatment; and (5) establish a procedure that will ensure no payment will be made from CHEF to a Service Unit to the extent the provider of services is eligible to receive payment from any other Federal, State, local, or private source of reimbursement for which the patient is eligible.

This comment period is being extended to allow all interested parties the opportunity to comment on the proposed rule. Therefore, we are extending the comment period until May 10, 2016.

Dated: March 4, 2016.
Elizabeth Fowler,
Deputy Director for Management Operations Indian Health Service.

[FR Doc. 2016-05555 Filed 3-10-16; 8:45 am]

BILLING CODE 4165-16-P